DEPARTMENT OF THE INTERIOR

Bureau of Land Management

[UT-030-07-1610-PH-24-1A]

Notice of Resource Advisory Committee Meeting

AGENCY: Grand Staircase-Escalante National Monument (GSENM), Bureau of Land Management (BLM), Department of the Interior.

ACTION: Notice of Grand Staircase-Escalante National Monument Advisory Committee (GSENMAC) meeting.

SUMMARY: In accordance with the Federal Land Policy and Management Act (FLPMA) and The Federal Advisory Committee Act of 1972 (FACA), the U.S. Department of the Interior, Bureau of Land Management's (BLM) Grand Staircase-Escalante National Monument Advisory Committee (GSENMAC) will meet as indicated below.

DATES: The GSENMAC will meet September 19 and 20, 2007; with an optional field trip on September 21.

ADDRESSES: The GSENMAC will meet at the GSENM Visitor Center, Conference Room, 745 HWY 89 East, Kanab, Utah.

FOR FURTHER INFORMATION: Contact Larry Crutchfield, Public Affairs Officer, GSENM Headquarters Office, 190 East Center, Kanab, Utah 84741; phone (435) 644-4310, or e-mail larry_crutchfield@blm.gov.

SUPPLEMENTARY INFORMATION: The meeting on September 19 will begin at 9:30 a.m. and conclude at 6 p.m.; the meeting on September 20 will begin at 8 a.m. and conclude at 12 p.m. An orientation site visit to the Buckskin Mountain vegetation restoration and fuels reduction project is scheduled from 12 p.m. to 5 p.m. on September 21.

The Grand Staircase-Escalante National Monument Advisory Committee (GSENMAC) was first appointed by the Secretary of Interior on September 26, 2003, pursuant to the Monument Management Plan, the Federal Land Policy and Management Act of 1976 (FLPMA), and the Federal Advisory Committee Act of 1972 (FACA) and was subsequently reappointed June 2, 2006. As specified in the Monument Management Plan, the GSENMAC will have several primary tasks (1) Review evaluation reports produced by the Management Science Team and make recommendations on protocols and projects to meet overall objectives. (2) Review appropriate research proposals and make recommendations on project necessity and validity. (3) Make recommendations regarding allocation of research funds through review of research and project proposals as well as needs identified through the evaluation process above. (4) Could be consulted on issues such as protocols for specific projects.

Topics to be presented and discussed by the GSENMAC include: Elections for GSENMAC Chair and Vice Chair; Management updates to the GSENMAC; Sub-committee reports (Rangeland Health, Science, and Marketing/Partnerships/Revenue); vegetation restoration and fuels reduction on Buckskin Mountain.

Members of the public are welcome to address the council from 5 p.m. to 6 p.m., local time on September 19, 2007, in Kanab, Utah, at the GSENM Visitor Center. Depending on the number of persons wishing to speak, a time limit could be established. Interested persons may make oral statements to the GSENMAC during this time or written statements may be submitted for the GSENMAC's consideration. Written statements can be sent to: Grand Staircase-Escalante National Monument, Attn.: Larry Crutchfield, 190 E. Center Street, Kanab, UT 84741. Information to be distributed to the GSENMAC is requested 10 days prior to the start of the GSENMAC meeting.

All meetings, including the site orientation, are open to the public; however, transportation, lodging, and meals are the responsibility of the participating public.

Dated: August 26, 2007.
Larry E Crutchfield,
Acting Monument Manager, Grand Staircase-Escalante National Monument.

[FR Doc. E7-17292 Filed 8-31-07; 8:45 am]

BILLING CODE 4310-$$-P